NUCLEAR REGULATORY COMMISSION

U.S. Nuclear Regulatory Commission Seeks Qualified Candidates for the Advisory Committee on Reactor Safeguards

AGENCY: U.S. Nuclear Regulatory Commission.

ACTION: Request for resumés.

SUMMARY: The U.S. Nuclear Regulatory Commission (NRC) is seeking two qualified candidates for appointment to its Advisory Committee on Reactor Safeguards (ACRS).

ADDRESSES: Submit resumés to: Ms. Robin Avent, Office of Human Resources, U.S. Nuclear Regulatory Commission, Washington, DC 20555-0001.

For Application Materials, Call: 1-800-952-9678. Please refer to Announcement Number 60000001.

SUPPLEMENTARY INFORMATION: Congress established the ACRS to provide the NRC with independent expert advice on matters related to licensing and the safety of existing and proposed nuclear power plants. The Committee's work currently emphasizes safety issues associated with the operation of 103 commercial nuclear power plants in the United States; the pursuit of a risk-informed, and performance-based regulatory approach; review of license renewal applications; digital instrumentation and control systems; and technical issues related to standard plant designs.

The ACRS membership includes individuals from national laboratories, academia, and industry who possess specific technical expertise along with a broad perspective in addressing safety concerns. Committee members are selected from a variety of engineering and scientific disciplines, such as nuclear power plant operations, nuclear engineering, mechanical engineering, electrical engineering, chemical engineering, metallurgical engineering, structural engineering, materials science, and instrumentation and process control systems. At this time, candidates are specifically being sought who have 15-20 years of experience, including graduate level education, in the areas of structural mechanics/materials engineering and metallurgy applicable to nuclear power systems, and the application of risk methods related to nuclear regulatory safety issues.

Criteria used to evaluate candidates include education and experience, demonstrated skills in nuclear reactor matters, and the ability to solve problems. Additionally, the Commission considers the need for specific expertise in relationship to current and future tasks. Consistent with the requirements of the Federal Advisory Committee Act, the Commission seeks candidates with diverse viewpoints so that the membership on the Committee will be fairly balanced.

Because conflict-of-interest regulations restrict the participation of members actively involved in the regulated aspects of the nuclear industry, the degree and nature of any such involvement will be weighed. Each qualified candidate's financial interests must be reconciled with applicable Federal and NRC rules and regulations prior to final appointment. This might require divestiture of securities issued by nuclear industry entities, or discontinuance of industry-funded research contracts or grants.

Copies of a resumé describing the educational and professional background of the candidate, including any special accomplishments, professional references, current address and telephone number should be provided. All qualified candidates will receive careful consideration. Appointment will be made without regard to such factors as race, color, religion, national origin, sex, age, or disabilities. Candidates must be citizens of the United States and be able to devote approximately 60-100 days per year to Committee business. Applications will be accepted until September 29, 2000.

Dated: July 18, 2000.
Andrew L. Bates,
Advisory Committee Management Officer.

[FR Doc. 00-18653 Filed 7-21-00; 8:45 am]

BILLING CODE 7590-01-P